DEPARTMENT OF AGRICULTURE

Grain Inspection, Packers and Stockyards Administration

7 CFR Part 810

RIN 0580-AB12

Request for Public Comment on the United States Standards for Wheat

AGENCY: Grain Inspection, Packers and Stockyards Administration, USDA.

ACTION: Advance notice of proposed rulemaking.

SUMMARY: The Department of Agriculture's (USDA) Grain Inspection, Packers, and Stockyards Administration (GIPSA) is reviewing the United States (U.S.) Standards for Wheat under the United States Grain Standards Act (USGSA). Since the standards were last revised, numerous changes have occurred in the breeding and production practices of wheat; the technology used to harvest, process, and test wheat; and also wheat marketing. To ensure that standards and official grading practices remain relevant, GIPSA invites interested parties to comment on whether the current wheat standards and grading practices need to be changed.

DATES: Comments must be received on or before February 25, 2010.

ADDRESSES: You may submit your written or electronic comments on this notice to:

• Mail: Tess Butler, GIPSA, USDA, 1400 Independence Avenue, SW., Room 1643-S, Washington, DC 20250-3604.

• E-mail comments to: comments.gipsa@usda.gov.

• Fax: (202) 690-2173.

• Internet: Go to http://www.regulations.gov and follow the on-line instruction for submitting comments.

All comments will become a matter of public record and should be identified as “United States Standards for Wheat Notice Comments,” making reference to the date and page number of this issue of the Federal Register. Comments will be available for public inspection at http://www.regulations.gov and in the above office during regular business hours (7 CFR 1.27(b)). Please call the GIPSA Management Support Staff at (202) 720-7486 to make an appointment to read comments received.

FOR FURTHER INFORMATION CONTACT: Patrick McCluskey at GIPSA, USDA, Beacon Facility, Stop 1404, P.O. Box 419205, Kansas City, MO 64131-6205; Telephone (816) 823-4639; Fax Number (816) 823-4644; e-mail Patrick.J.McCluskey@usda.gov.

SUPPLEMENTARY INFORMATION:

Executive Order 12866

This rule has been determined to be exempt for the purposes of Executive Order 12866, and therefore has not been reviewed by the Office of Management and Budget (OMB).

Under the authority of the USGSA (7 U.S.C. 76), GIPSA establishes standards for wheat and other grains regarding kind, class, quality and condition. The wheat standards, established by USDA on August 1, 1917, were last revised in 1993 and 2006 and appear in the USGSA regulations at 7 CFR 810.2201-810.2205. The standards facilitate wheat marketing and define U.S. wheat quality in the domestic and global marketplace. The standards define commonly used industry terms; contain basic principles governing the application of standards, such as the type of sample used for a particular quality analysis; specify grades, grade requirements, special grades; and special grade requirements, such as garlicky wheat and light smutty wheat. Official procedures for determining grading factors are provided in GIPSA's Grain Inspection Handbook, Book II, Chapter 13, “Wheat,” which also includes standardized procedures for additional quality attributes not used to determine grade, such as protein content and falling number. Together, the grading standards and testing procedures allow buyers and sellers to communicate quality requirements, compare wheat quality using equivalent forms of measurement and assist in price discovery.

GIPSA's grading and inspection services are provided through a network of federal, state, and private laboratories that conduct tests to determine the quality and condition of wheat. These tests are conducted in accordance with applicable standards using approved methodologies and can be applied at any point in the marketing chain. Furthermore, the tests yield rapid, reliable and consistent results. In addition, GIPSA-issued certificates describing the quality and condition of graded wheat are accepted as prima facie evidence in all Federal courts. U.S. wheat standards and the affiliated grading and testing services offered by GIPSA verify that a seller's wheat meets specified requirements, and ensure that customers receive the quality of wheat they purchased.

In order for U.S. standards and grading procedures for wheat to remain relevant, GIPSA is issuing this advance notice of proposed rulemaking to invite interested parties to submit comments, ideas, and suggestions on all aspects of the U.S. wheat standards and inspection procedures.

Authority: 7 U.S.C. 71-87K.

J. Dudley Butler,
Administrator, Grain Inspection, Packers and Stockyards Administration.

[FR Doc. E9-28429 Filed 11-25-09; 8:45 am]

BILLING CODE 3410-KD-P